DEPARTMENT OF TRANSPORTATION

Coast Guard

33 CFR Part 117

[CGD07-00-006]

RIN 2115-AE 47

Drawbridge Operation Regulations; Longboat Pass and New Pass, Longboat Key, FL

AGENCY: Coast Guard, DOT.

ACTION: Notice of proposed rulemaking.

SUMMARY: In response to a request from Manatee County and after reviewing opening data for the bridges, the Coast Guard proposes to change the regulations governing the operation of the State Road 789 drawbridge across Longboat Pass, Manatee County and New Pass, Sarasota County, in Longboat Key, Florida. The changes would provide continuous drawtender attendance at Longboat Pass Bridge and remove the existing timed opening schedule for the New Pass Bridge. This action should accommodate the needs of vehicle traffic and better provide for the reasonable needs of navigation.

DATES: Comments and related material must be received by October 24, 2000.

ADDRESSES: You may mail comments and related material to Commander (obr), Seventh Coast Guard District, 909 SE 1st Avenue, Miami, Florida 33131-3050, or may be delivered to room 406 at the above address between 7:30 a.m. and 4 p.m. Monday through Friday, except Federal holidays. The Commander, Seventh Coast Guard District, maintains the public docket for this rulemaking. Comments and material received from the public, as well as documents indicated in this preamble as being available in the docket, will become part of this docket and will be available for inspection and will be available for inspection or copying at Commander (obr), Seventh Coast Guard District 909 SE 1st Avenue, room 406, Miami, FL 33131, between 8 a.m. and 4 p.m. Monday through Friday, except federal holidays.

FOR FURTHER INFORMATION CONTACT: Mr. Barry Dragon, Project Officer, Seventh Coast Guard District, at (305) 415-6730.

SUPPLEMENTARY INFORMATION:

Request for Comments

We encourage you to participate in this rulemaking by submitting comments and related material. If you do so, please include your name and address, identify the docket number for this rulemaking, [CGD7-00-006], and indicate the specific section of this document to which each comment applies, and give the reason for each comment. Please submit all comments and related material in an unbound format, no larger than 8½ by 11 inches, suitable for copying. If you would like to know they reached us please enclose a stamped, self-addressed postcard or envelope. We will consider all comments received during the comment period. We may change this proposal in view of them.

Public Meeting

We do not now plan to hold a public meeting. But you may submit a request for a meeting by writing to us at Seventh Coast Guard District (obr), 909 SE 1st Avenue, Room 406, Miami, FL 33133-3050 at the address under ADDRESSES, explaining why one would be beneficial. If we determine that one would aid this rulemaking, we will hold one at a time and place announced by a later notice in the Federal Register.

Background and Purpose

Existing regulations in 33 CFR 117.299 require the Longboat Pass Bridge to open on signal from 6 a.m. to 6 p.m.. From 6 p.m. to 6 a.m. the bridge is not tended and requires 3 hours advance notice to open. The number of openings has increased at the bridge from 3,825 in 1997 to 4,499 in 1999. In addition, some boaters have reported difficulties obtaining openings at night when the bridge is not tended. Manatee County asked that the bridge be required to open on signal at all times.

Existing regulations in 33 CFR 117.311 require the New Pass Bridge to be attended at all times and provide for timed openings from 7 a.m. to 6 p.m. on the hour, 20 minutes past the hour, and forty minutes past the hour. Continual shoaling of New Pass has rendered it not navigable except for shallowest draft vessels. Consequently, the number of openings has continually decreased from 6942 in 1975, to 3847 in 1982 to 1367 in 1998. Manatee County asks that the bridge no longer operate on timed openings and that the bridge not be tended from 6 p.m. to 6 a.m.

Discussion of Rule

This proposal would amend 33 CFR 117.299 to require constant, on signal bridgetender service. The proposal would amend 33 CFR 117.311 to require on signal openings between 6 a.m. and 6 p.m. with 3 hours advance notice required between 6 p.m. and 6 a.m. These changes meet the increased need for openings at the Longboat Pass bridge because of the increased vessel traffic there, while allowing for less openings and untended periods at the New Pass bridge because of the significant decrease in vessel traffic there. The telephone number to call for an after-hours opening would be (941-359-5666).

Regulatory Evaluation

This proposed rule is not a significant regulatory action under section 3(f) of Executive Order 12866 and does not require an assessment of potential costs and benefits under section 6(a) (3) of that order. The office of Management and Budget has not reviewed it under that order. It is not significant under the regulatory polices and procedures of the Department of Transportation (DOT) (44 FR 11040; February 26, 1979). We expect the economic impact of this proposal to be so minimal that a full Regulatory Evaluation under paragraph 10(e) of the regulatory policies and procedures of DOT is unnecessary. We conclude this because there are no economic impacts in this proposal.

Small Entities

Under the Regulatory Flexibility Act (5 U.S.C. 601-612), we considered whether this proposed rule would have a significant economic impact on a substantial number of small entities. The term “small entities” comprises small businesses, not-for-profit organizations that are independently owned and operated and are not dominant in their fields, and governmental jurisdictions with populations of less than 50,000.

The Coast Guard certifies under 5 U.S.C. 605(b) that this proposed rule will not have a significant economic impact on a substantial number of small entities. Operators of small to medium sized recreational and commercial craft will benefit from the proposal by having easier access through the drawbridges. If you think that your business, organization, or governmental jurisdiction qualifies as a small entity and that this proposed rule would have a significant economic impact on it, please submit a comment (see addresses) explaining why you think it qualities and how to what degree this proposed rule would economically affected it.

Assistance for Small Entities

Under section 213(a) of the Small Business Regulatory Enforcement Fairness Act of 1996 (Pub. L. 104-121), we offered to assist small entities in understanding the rule so that they could better evaluate its effects on them and participate in the rulemaking process. Small entities may contact the person listed under FOR FURTHER INFORMATION CONTACT for assistance in understanding and participating in this rulemaking. We also have a point of contact for commenting on actions by employees of the Coast Guard. Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

We have analyzed this proposed rule under Executive Order 12612, and have determined that this rule does not have sufficient federalism implications to warrant the preparation of Federalism Assessment.

Unfunded Mandates Reform Act

The unfunded Mandates Reform Act of 1995 (2 U.S.C.) (1531-1538) and Executive Order 12875, Enhancing the Intergovernmental Partnership, (58 FR 58093, October 28, 1993) govern the issuance of Federal regulations that require unfunded mandates. An unfunded mandate is a regulation that requires a State, local, or tribal government or the private sector to incur direct costs without the Federal Government's having first provided the funds to pay those costs. This proposed rule would not impose an unfunded mandate.

Taking of Private Property

This proposed rule will not effect a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This proposed rule is not an economically significant rule and does not concern an environmental risk to health or risk to safety that may disproportionately affect children.

Environment

The Coast Guard considered the environmental impact of this proposed rule and concluded that under figure 2-1, paragraph (32)(e), of Commandant Instruction M16475.lC, this rule is categorically excluded from further environmental documentation. A “Categorical Exclusion Determination” is available in the docket for inspection or copying where indicated under ADDRESSES.

List of Subjects in 33 CFR Part 117

Bridges.

For the reasons discussed in the preamble, the Coast Guard proposes to amend 33 CFR part 117 as follows:

PART 117—DRAWBRIDGE OPERATION REGULATIONS

1. The authority citation for part 117 continues to read as follows:

Authority: 33 U.S.C. 499; 49 CFR 1.46; 33 CFR 1.05-1(g); section 117.255 also issued under the authority of Pub. L. 102-587, 106 Stat. 5039.

§ 117.299 [Removed]

2. Section 117.299 is removed.

3. Revise § 117.311 to read as follows:

§ 117.311 New Pass

The draw of the State Road 789 bridge, mile 0.5 at Sarasota, shall open on signal; except that, from 6 p.m. to 6 a.m., the draw shall open on signal if at least three hours notice is given.

Dated: August 10, 2000.
Thad W. Allen,
Rear Admiral, U.S. Coast Guard, Commander, Seventh Coast Guard District.

[FR Doc. 00-21823 Filed 8-24-00; 8:45 am]

BILLING CODE 4910-15-U